DEPARTMENT OF COMMERCE

Bureau of Export Administration

National Defense Authorization Act

ACTION: Notice and request for comments.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 30, 2001.

ADDRESSES: Direct all written comments to Madeleine Clayton, DOC Paperwork Clearance Officer, (202) 482-3129, Department of Commerce, Room 6086, 14th and Constitution Avenue, NW., Washington, DC 20230, or via e-mail at mclayton@doc.gov.

FOR FURTHER INFORMATION CONTACT: Requests for additional information or copies of the information collection instrument(s) and instructions should be directed to Dawnielle Battle, BXA ICB Liaison, Department of Commerce, Room 6883, 14th & Constitution Avenue, NW, Washington, DC, 20230.

SUPPLEMENTARY INFORMATION:

I. Abstract

This collection of information is required as the result of the amending of the Export Administration Regulations (15 CFR parts 730-799) (EAR) by revising the (EAR) requirements for exports and reexports contained in Sections 1211-1215 of the National Defense Authorization Act (NDAA) for fiscal year 1998 (P.L. 105-85, 111 Stat. 1629), signed by the President on November 18, 1997. There is one component of this information collection authorization, a post-shipment report on the export of high performance computers, as well as exports of items used to enhance previously exported or reexported computers, to Tier 3 countries, where the CTP is greater than 85,000 MTOPS for commodities shipped on or after March 20, 2001. (For commodities shipped prior to that date, lower reporting thresholds apply, per 15 CFR parts 740.7 and 742.12.) Exporters are required to provide a written report to BXA no later than the last day of the month following the month in which the export takes place. To simplify this process, BXA is developing an electronic form that will incorporate the relevant data elements and replace the written report, thereby standardizing the data format for the applicant, and enabling the use of information technology in the processing of the data.

II. Method of Collection

Submitted on forms.

III. Data

OMB Number: 0694-0107.

Form Number: BXA 742R, BXA 742S.

Type of Review: Regular submission for extension of a currently approved collection.

Affected Public: Individuals, businesses or other for-profit and not-for-profit institutions.

Estimated Number of Respondents: 5.

Estimated Time Per Response: 15 minutes per response.

Estimated Total Annual Burden Hours: 6 hours.

Estimated Total Annual Cost: No start-up capital expenditures.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. In addition, the public is encouraged to provide suggestions on how to reduce and/or consolidate the current frequency of reporting.

Comments submitted in response to this notice will be summarized and/or included in the request for OMB approval of this information collection; they will also become a matter of public record.

Dated: August 27, 2001.
Madeleine Clayton,
Departmental Paperwork Clearance Officer, Office of the Chief Information Officer.

[FR Doc. 01-21993 Filed 8-30-01; 8:45 am]

BILLING CODE 3510-DT-P